DEPARTMENT OF COMMERCE

Membership of the Departmental Performance Review Board

AGENCY: Department of Commerce.

ACTION: Notice of membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2013.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue, NW., Washington, DC 20230, (202) 482-3600.

SUPPLEMENTARY INFORMATION: The names and position titles of the members of the DPRB are set forth below by organization:

Department of Commerce Departmental Performance Review Board Membership 2011-2013

Office of the Secretary, John C. Connor, Director for White House Liaison, Ellen Herbst, Senior Advisor for Policy & Program Integration.

Office of General Counsel, Michael A. Levitt, Assistant General Counsel for Legislation and Regulation, Barbara S. Fredericks, Assistant General Counsel for Administration, Geovette E. Washington, Deputy General Counsel.

Chief Financial Officer and Assistant Secretary for Administration, William J. Fleming, Director for Human Resources Management.

Office of the Chief Information Officer, Earl B. Neal, Director of Information Technology, Security, Infrastructure and Technology.

Bureau of Industry and Security, Gay G. Shrum, Director of Administration.

Bureau of the Census, Arnold A. Jackson, Associate Director for Decennial Census, Marilia A. Matos, Associate Director for Field Operations.

Economics and Statistics Administration, Nancy Potok, Deputy Under Secretary for Economic Affairs, Joanne Buenzli Crane, Chief Financial Officer and Director for Administration.

Economics and Development Administration, Thomas Guevara, Deputy Assistant Secretary for Regional Affairs, Sandra Walters, Chief Financial Officer and Director of Administration.

International Trade Administration, Michelle O'Neill, Deputy Under Secretary for International Trade, Stephen P. Jacobs, Deputy Assistant Secretary for Market Access and Compliance, Rene A. Macklin, Chief Information Officer.

Minority Business Development Agency, Alejandra Y. Castillo, Deputy Director, Edith J. McCloud, Associate Director for Management.

National Oceanic and Atmospheric Administration, Robert J. Byrd, Chief Financial Officer/Chief Administrative Officer, NWS, Joseph, F. Klimavicz, Chief Information Officer and Director of High Performance Computing and Communications, Maureen Wylie, Chief Financial Officer, NOAA, Kathleen A. Kelly, Director, Office of Satellite Operations, NESDIS.

National Technical Information Service, Bruce E. Borzino, Director, National Technical Information Service.

National Telecommunications and Information Administration, Anna M. Gomez, Deputy Assistant Secretary for Communications and Information, Bernadette McGuire-Rivera, Associate Administrator for Telecommunications and Information Applications.

National Institute of Standards and Technology, Richard F. Kayser, Jr., Chief Safety Officer.

Dated: August 22, 2011.
Denise A. Yaag,
Director, Office of Executive Resources.

[FR Doc. 2011-22099 Filed 8-30-11; 8:45 am]

BILLING CODE 3510-BS-M